SECURITIES AND EXCHANGE COMMISSION

[Release No. 34-77264; File No. SR-PHLX-2016-12]

Self-Regulatory Organizations; NASDAQ OMX PHLX LLC; Notice of Withdrawal of Proposed Rule Change to Adopt Limit Order Protection and Market Order Protection

March 1, 2016.

On January 21, 2016, NASDAQ OMX PHLX LLC (the “Exchange”) filed with the Securities and Exchange Commission (the “Commission”), pursuant to Section 19(b)(1) of the Securities Exchange Act of 1934 ¹ and Rule 19b-4 thereunder,² a proposed rule change to adopt a Limit Order Protection and a Market Order Protection feature for members accessing PSX. The proposed rule change was published for comment in the Federal Register on February 5, 2016.³ The Commission received no comment letters on the proposal. On February 26, 2016, the Exchange withdrew the proposed rule change.

¹ 15 U.S.C. 78s(b)(1).

² 17 CFR 240.19b-4.

³ See Securities Exchange Act Release No. 77007 (February 1, 2016), 81 FR 6314.

⁴ 17 CFR 200.30-3(a)(12).

For the Commission, by the Division of Trading and Markets, pursuant to delegated authority.⁴
Robert W. Errett,
Deputy Secretary.

[FR Doc. 2016-04907 Filed 3-4-16; 8:45 am]

BILLING CODE 8011-01-P